DEPARTMENT OF THE INTERIOR

National Park Service

[NPS-WASO-CONC-ABSV-18183; PPWOBSADC0, PPMVSCS1Y.Y00000]

Temporary Concession Contract for Point Reyes National Seashore

AGENCY: National Park Service, Interior.

ACTION: Notice of proposed award of temporary concession contracts for Point Reyes National Seashore, California.

SUMMARY: Notice is hereby given that the National Park Service (NPS) proposes to award a temporary concession contract for the conduct of certain Visitor services within Point Reyes National Seashore, California, for a term not to exceed 11 months. The visitor services include horseback riding and horse boarding of the location commonly known as Five Brooks Stables. This action is necessary to avoid interruption of visitor services.

DATES: The term of the temporary concession contracts will commence (if awarded) on or around December 1, 2015.

SUPPLEMENTARY INFORMATION: The NPS intends to award the temporary concession contract to Richard Vaughn, who the NPS has determined is a qualified person as defined in 36 CFR 51.3. The NPS has determined this temporary concession contract is necessary in order to avoid interruption of visitor services and has taken all reasonable and appropriate steps to consider alternatives to avoid an interruption of visitor services.

This action is being taken pursuant to 36 CFR 51.24(a). This is not a request for proposals.

Dated: September 21, 2015.
Jonathan B. Jarvis,
Director, National Park Service.

[FR Doc. 2015-25787 Filed 10-8-15; 8:45 am]

BILLING CODE P